DEPARTMENT OF ENERGY

Federal Energy Regulatory Commission

[Project No. 4472-031]

Union Falls Hydro Power, L.P.; Notice of Settlement Agreement and Soliciting Comments

Take notice that the following settlement agreement has been filed with the Commission and is available for public inspection.

a. Type of Application: Settlement Agreement.

b. Project No.: 4472-031.

c. Date Filed: August 3, 2023.

d. Applicant: Union Falls Hydro Power, L.P. (Union Falls).

e. Name of Project: Saranac Hydroelectric Project (project).

f. Location: The existing project is located on the Saranac River, in the town of Franklin in Franklin County and the town of Black Brook in Clinton County, New York.

g. Filed Pursuant to: Rule 602 of the Commission's Rules of Practice and Procedure, 18 CFR 385.602.

h. Applicant Contact: Ms. Sherri Loon, Coordinator—Operations USA, Kruger Energy, 423 Brunswick Ave., Gardiner, ME 04345; phone: (207) 203-3026; email: Sherri.Loon@kruger.com.

i. FERC Contact: Joshua Dub, 202-502-8138, or Joshua.Dub@ferc.gov.

j. Deadline for filing comments: September 6, 2023. Reply comments due: September 21, 2023.

The Commission strongly encourages electronic filing. Please file comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-4472-031.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. Union Falls filed a Settlement Agreement for the project's relicense proceeding, on behalf of itself; the U.S. Fish and Wildlife Service; the New York State Department of Environmental Conservation; and Trout Unlimited. The purpose of the Settlement Agreement is to resolve, among the signatories, relicensing issues related to project operation, water quantity, fish and aquatic resources, terrestrial resources, and recreation. The Settlement Agreement includes proposed protection, mitigation, and enhancement measures to address: (1) impoundment surface elevations; (2) bypassed reach and minimum base flows; (3) operation compliance and monitoring; (4) fish exclusion; (5) recreation; (6) freshwater mussel protection; (7) bald eagle protection; and (8) invasive species management. Union Falls requests that any new license issued by the commission for the project contain conditions consistent with the provisions of the Settlement Agreement and within the scope of its regulatory authority.

l. A copy of the Settlement Agreement is available for review on the Commission's website at http://www.ferc.gov using the “eLibrary” link. Enter the docket number, excluding the last three digits in the docket number field, to access the document (i.e., P-4472). At this time, the Commission has suspended access to the Commission's Public Reference Room. For assistance, contact FERC at FERCOnlineSupport@ferc.gov or call toll free, (886) 208-3676 or TTY (202) 502-8659.

You may also register online at https://www.ferc.gov/ferc-online/overview to be notified via email of new filings and issuances related to this or other pending projects. For assistance, contact FERC Online Support.

m. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 7, 2023.
Kimberly D. Bose,
Secretary.

[FR Doc. 2023-17236 Filed 8-10-23; 8:45 am]

BILLING CODE 6717-01-P